DEPARTMENT OF COMMERCE

Patent and Trademark Office

[Docket No.: 2003-P-018]

Notice of Availability of and Request for Comments on Green Paper Concerning Restriction Practice

AGENCY: United States Patent and Trademark Office, Commerce.

ACTION: Extension of comment period.

SUMMARY: The United States Patent and Trademark Office (USPTO) is conducting a study of its restriction practice as part of its 21st Century Strategic Plan to transform the USPTO into a quality focused, highly productive, responsive organization supporting a market-driven intellectual property system. The USPTO prepared a “Green Paper” describing and evaluating four options to reform restriction practice suggested by various members of the public, and published a notice on June 6, 2005, at 70 FR 32761 seeking public comment on the Green Paper. The USPTO is extending the period for public comment until September 14, 2005.

DATES: Comment Deadline Date: To be ensured of consideration, written comments on the Green Paper must be received on or before September 14, 2005. No public hearing will be held.

ADDRESSES: Comments should be sent by electronic mail message over the Internet addressed to: unity.comments@uspto.gov. Comments may also be submitted by mail addressed to: Mail Stop Comments—Patents, Commissioner for Patents, P.O. Box 1450, Alexandria, VA, 22313-1450, or by facsimile to (571) 273-7735, marked to the attention of Robert A. Clarke. Although comments may be submitted by mail or facsimile, the Office prefers to receive comments via the Internet. If comments are submitted by mail, the Office prefers that the comments be submitted on a DOS formatted 3½″ disk accompanied by a paper copy.

Comments may also be sent by electronic mail message over the Internet via the Federal eRulemaking Portal. See the Federal eRulemaking Portal Web site (http://www.regulations.gov) for additional instructions on providing comments via the Federal eRulemaking Portal.

The Green Paper is available on the USPTO's Internet Web site (http://www.uspto.gov).

The comments will be available for public inspection at the Office of the Commissioner for Patents, located in Madison East, Tenth Floor, 600 Dulany Street, Alexandria, Virginia, and will be available through anonymous file transfer protocol (ftp) via the Internet (address: http://www.uspto.gov). Because comments will be made available for public inspection, information that is not desired to be made public, such as an address or phone number, should not be included in the comments.

FOR FURTHER INFORMATION CONTACT: Robert A. Clarke, Senior Legal Advisor, Office of Patent Legal Administration, Office of the Deputy Commissioner for Patent Examination Policy, by telephone at (571) 272-7735, by mail addressed to: Mail Stop Comments—Patents, Commissioner for Patents, P.O. Box 1450, Alexandria, VA, 22313-1450, or by facsimile to (571) 273-7735, marked to the attention of Robert A. Clarke, or preferably via e-mail addressed to: robert.clarke@uspto.gov.

Dated: August 1, 2005.
John J. Doll,
Commissioner for Patents.

[FR Doc. 05-15506 Filed 8-4-05; 8:45 am]

BILLING CODE 3510-16-P